DEPARTMENT OF VETERANS AFFAIRS

Advisory Committee on Women Veterans; Notice of Meeting

The Department of Veterans Affairs (VA) gives notice under Public Law 92-463 (Federal Advisory Committee Act) that the Advisory Committee on Women Veterans will meet January 27-29, 2004, from 8 a.m. to 4:30 p.m., in VA Central Office, 810 Vermont Avenue, NW., Washington, DC 20420. On January 27 and 29, the meeting will be held in room C-7 and on January 28, the meeting will be held in room 630. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On January 27, the agenda will include briefings and updates on issues related to women veterans' issues in VA Veterans Health Administration, research studies on women veterans' health, the Capital Asset Realignment for Enhanced Services (CARES) process, focus group site visits, the Stakeholder Engagement Survey administered by the General Services Administration, and presentations of Certificates of Appointment to two new Committee members. On January 28, the Committee will be briefed on legislative issues affecting women veterans, compensation and pension benefits, and the Veterans' Employment and Training Service administered by the Department of Labor. On January 29, the Committee will receive updates on the VA Homeless Program, the required ethics briefing, and any new issues that the Committee members may introduce.

Any member of the public wishing to attend should contact Ms. Rebecca Schiller, at the Department of Veterans Affairs, Center for Women Veterans (00W), 810 Vermont Avenue, NW., Washington, DC 20420. Ms. Schiller may be contacted either by phone at (202) 273-6193, fax at (202) 273-7092, or e-mail at 00W@mail.va.gov. Interested persons may attend, appear before, or file statements with the Committee. Written statements must be filed before the meeting, or within 10 days after the meeting.

Dated: December 18, 2003.
By Direction of the Secretary.
E. Philip Riggin,
Committee Management Officer.

[FR Doc. 03-31814 Filed 12-24-03; 8:45 am]

BILLING CODE 8320-01-M